NATIONAL AERONAUTICS AND SPACE ADMINISTRATION

[Notice (01-149)]

Notice of Prospective Patent License

AGENCY: National Aeronautics and Space Administration.

ACTION: Notice of Prospective Patent License.

SUMMARY: NASA hereby gives notice that Femto Trace, Inc. of La Cresenta, California, has applied for an exclusive license to practice the inventions described and claimed in U.S. Patent No. 4,649,278, entitled “Generation of Intense Negative Ion Beams,” U.S. Patent No. 4,933,551, entitled “Reversal Electron Attachment Ionizer for Detection of Trace Species,” U.S. Patent No. 5,374,828, entitled “Method for Trace Oxygen Detection,” and U.S. Patent No. 5,670,378, entitled “Electron Reversal Ionizer for Detection of Trace Species Using a Spherical Cathode,” all of which are assigned to the United States of America as represented by the Administrator of the National Aeronautics and Space Administration. Written objections to the prospective grant of a license should be sent to the NASA Management Office—JPL.

Responses to this notice must be received by December 10, 2001.

FOR FURTHER INFORMATION CONTACT: John Kusmiss, Patent Counsel, NASA Management Office—JPL, 4800 Oak Grove Drive, Mail Stop 180-802, Pasadena, CA 91109-8099.

Dated: November 14, 2001.
Edward A. Frankle,
General Counsel.

[FR Doc. 01-29213 Filed 11-21-01; 8:45 am]

BILLING CODE 7510-01-P